DEPARTMENT OF HOMELAND SECURITY

Federal Emergency Management Agency

[Docket ID: FEMA-2013-0034; OMB No. 1660-0125]

Agency Information Collection Activities: Proposed Collection; Comment Request

AGENCY: Federal Emergency Management Agency, DHS.

ACTION: Notice.

SUMMARY: The Federal Emergency Management Agency, as part of its continuing effort to reduce paperwork and respondent burden, invites the general public and other Federal agencies to take this opportunity to comment on revision of a currently approved collection. In accordance with the Paperwork Reduction Act of 1995, this notice seeks comments concerning the collection of information to administer the Homeland Security Grant Program (HSGP).

DATES: Comments must be submitted on or before October 8, 2013.

ADDRESSES: To avoid duplicate submissions to the docket, please use only one of the following means to submit comments:

(1) Online. Submit comments at www.regulations.gov under Docket ID FEMA-2013-0034. Follow the instructions for submitting comments.

(2) Mail. Submit written comments to Docket Manager, Office of Chief Counsel, DHS/FEMA, 500 C Street SW., Room 840, Washington, DC 20472-3100.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Julie Vernetti, Program Analyst, FEMA, Grant Programs Directorate, 202-786-9857. You may contact the Records Management Division for copies of the proposed collection of information at facsimile number (202) 646-3347 or email address: FEMA-Information-Collections-Management@dhs.gov.

SUPPLEMENTARY INFORMATION: FEMA's Homeland Security Grant Program (HSGP) is an important part of the Administration's larger, coordinated effort—known as the Federal Investment Strategy—to strengthen homeland security preparedness. The HSGP implements objectives addressed in a series of post-9/11 laws, strategy documents, plans, and Homeland Security Presidential Directives. FEMA management requirements are incorporated into the Homeland Security Grant Program and reflect changes mandated in the Homeland Security Act of 2002 (6 U.S.C. 101 et seq.), as amended by the Implementing Recommendations of the 9/11 Commission Act of 2007 (Pub. L. 110-053). Additional statutory requirements are outlined in the Department of Homeland Security Appropriations Act, 2013 (Pub. L. 113-6).

Collection of Information

Title: FEMA Preparedness Grants: Homeland Security Grant Program (HSGP).

Type of Information Collection: Revision of a currently approved collection.

OMB Number: 1660-0125.

FEMA Forms: FEMA Form 089-1, HSGP Investment Justification; FEMA Form 089-16, OPSG Operations Order Report; FEMA Form 089-20, OPSG Inventory of Operation Orders.

Abstract: The HSGP is an important tool among a comprehensive set of measures to help strengthen the Nation against risks associated with potential terrorist attacks. DHS/FEMA uses the information to evaluate applicants' familiarity with the national preparedness architecture and identify how elements of this architecture have been incorporated into regional/state/local planning, operations, and investments. The Homeland Security Grant Program (HSGP) is a primary funding mechanism for building and sustaining national preparedness capabilities. HSGP is comprised of three separate grant programs: The State Homeland Security Program (SHPS), the Urban Areas Security Initiative (UASI), and the Operation Stonegarden (OPSG). Together, these grants fund a range of preparedness activities, including planning, organization, equipment purchase, training, exercises, and management and administration costs.

Affected Public: State, Local or Tribal Government.

Number of Respondents: 322.

Number of Responses: 532.

Estimated Total Annual Burden Hours: 333,502 hours.

Estimated Annualized Burden Hours and Costs
Type of respondent | Form name/form No. | Number of respondents | Number of Responses per Respondent | Total Number of responses | Average burden per response (in hours) | Total annual burden (in hours) | Average hourly wage rate | Total annual respondent cost
State, Local or Tribal Government | HSGP/SHSP/UASI Investment Justification, FEMA Form 089-1 | 56 | 1 | 56 | 1488.5 | 83,356 | $38.14 | $3,179,197
State, Local or Tribal Government | Documentation from SAA on how operational overtime UASI funds held by State would support urban area | 10 | 2 | 20 | 4 | 80 | 38.14 | 3,051
State, Local or Tribal Government | Multi-year Training & Exercise Plan | 56 | 1 | 56 | 42 | 2,352 | 38.14 | 89,705
State, Local or Tribal Government | Urban Area Working Group Structure, including Points of Contact | 62 | 2 | 124 | 1354 | 167,896 | 38.14 | 6,403,553
State, Local or Tribal Government | UASI Governance Charter | 33 | 2 | 66 | 250 | 16,500 | 38.14 | 629,310
State, Local or Tribal Government | UASI Strategy | 33 | 2 | 66 | 500 | 33,000 | 38.14 | 1,258,620
State, Local or Tribal Government | UAWG spending consensus | 33 | 2 | 66 | 80 | 5,280 | 38.14 | 201,379
State, Local or Tribal Government | OPSG Operations Order/FEMA Form 089-16 | 39 | 1 | 39 | 570 | 22,230 | 38.14 | 847,852
State, Local or Tribal Government | OPSG Inventory of Operation Orders/FEMA Form 089-20 | 39 | 1 | 39 | 72 | 2,808 | 38.14 | 107,097
Total |  | 322 |  | 532 |  | 333,502 |  | 12,719,764
• Note: The “Avg. Hourly Wage Rate” for each respondent includes a 1.4 multiplier to reflect a fully-loaded wage rate.

Estimated Cost: The estimated annual cost to respondents for the hour burden is $12,719,764. There are no annual costs to respondents operations and maintenance costs for technical services. There is no annual start-up or capital costs. The cost to the Federal Government is $2,617,570.

Comments

Comments may be submitted as indicated in the ADDRESSES caption above. Comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: August 5, 2013.
Loretta Cassatt,
Chief, Records Branch, Records Management Division, Mission Support Bureau, Federal Emergency Management Agency, Department of Homeland Security.

[FR Doc. 2013-19326 Filed 8-8-13; 8:45 am]

BILLING CODE 9111-19-P